DEPARTMENT OF ENERGY

Federal Energy Regulatory Commission

[Project No. 619-164]

Pacific Gas and Electric Company and City of Santa Clara, California; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Major License.

b. Project No.: 619-164.

c. Date filed: December 12, 2016.

d. Applicant: Pacific Gas and Electric Company (PG&E) and City of Santa Clara, California.

e. Name of Project: Bucks Creek Hydroelectric Project.

f. Location: The Bucks Creek Project is located on Bucks, Grizzly, and Milk Ranch Creeks in Plumas County, California. Portions of the project are located within the Plumas National Forest.

g. Filed Pursuant to: Federal Power Act, 16 U.S.C. 791(a)-825(r).

h. Applicant Contact: Alan Soneda, PG&E, Mail Code N13C, P. 0. Box 770000, San Francisco, California 94177-0001; (415) 973-4054.

i. FERC Contact: Alan Mitchnick at (202) 502-6074 or alan.mitchnick@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-619-164.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description:

Bucks Lake Dam and Reservoir (Bucks Creek Development)

The Bucks Lake Dam consists of a rock-fill with concrete face dam. It has a structural height of 123 feet and a length of 1,320 feet. Bucks Creek Dam impounds Bucks Lake, which extends 5 miles from the dam. Total storage in the 1,827-acre reservoir is approximately 105,605 acre-feet at the normal maximum water surface elevation of approximately 5,157 feet. From Bucks Lake, the project's water flow is released immediately downstream into Lower Bucks Lake.

Three Lakes Dam and Reservoir, and Milk Ranch Conduit (Bucks Creek Development)

The Three Lakes dam consists of a rock-fill dam with a structural height of 30 feet and a length of 584 feet. Three Lakes Dam impounds the flow of Milk Ranch Creek, forming Upper Lake, Middle Lake, and Lower Lake, collectively known as Three Lakes Reservoir. These water bodies are hydraulically linked and are approximately 0.75 mile from the dam. Total storage in the 40-acre reservoir is approximately 605 acre-feet at the normal maximum water surface elevation of approximately 6,078 feet.

Milk Ranch Conduit conveys the project's water flow from Three Lakes Reservoir and feeder diversions to Lower Bucks Lake. The maximum capacity of the approximately 8-mile-long conduit is about 70 cubic foot per second (cfs). It collects additional flow from several diversions located on unnamed tributaries.

Lower Bucks Lake Dam and Reservoir (Bucks Creek Development)

The Lower Bucks Lake Dam consists of a concrete arch dam with a structural height of 99 feet and a length of 500 feet. Lower Bucks Creek Dam impounds Lower Bucks Lake, which extends approximately 1.1 miles from the dam. Total storage in the 136-acre reservoir is approximately 5,843 acre-feet at the normal maximum water surface elevation of approximately 5,022 feet. Water is conveyed from Lower Bucks Lake to the Grizzly Powerhouse by the Grizzly Powerhouse Tunnel.

Grizzly Powerhouse Tunnel (Grizzly Development)

The 12,320-foot-long Grizzly Powerhouse Tunnel (including a 4,900-foot-long buried penstock) conveys the water flow from Lower Bucks Lake to Grizzly Powerhouse. The maximum flow capacity is 400 cfs.

Grizzly Powerhouse (Grizzly Development)

The Grizzly Powerhouse is a 65-foot-long by 55-foot-wide, steel frame and concrete building constructed from reinforced concrete. The powerhouse contains one turbine-generator with a maximum capacity of 20 megawatts (MW). The powerhouse produces an average annual generation production of 47.4 gigawatt-hours (GWh). Grizzly Powerhouse discharges the project's water flow directly into the Grizzly Forebay.

A 4.2-mile-long, 115-kilovolt (kV) transmission line transmits power from Grizzly Powerhouse to PG&E's 115-kV Caribou-Sycamore Transmission Line, part of the interconnected system.

Grizzly Forebay Dam and Reservoir (Bucks Creek Development)

The Grizzly Forebay Dam consists of a concrete arch dam with a structural height of 98 feet and a length of 520 feet. Grizzly Forebay Dam impounds the Grizzly Forebay, forming the Grizzly Forebay Reservoir that extends approximately 0.8 mile. Total storage in the 38-acre reservoir is approximately 1,112 acre-feet at the normal maximum water surface elevation of approximately 4,316 feet.

Grizzly Forebay Tunnel (Bucks Creek Development)

From Grizzly Forebay, the project's water flow is conveyed through the horseshoe-shaped Grizzly Forebay Tunnel. The tunnel is 9,575-foot-long with two 4,786-foot-long penstocks leading to Bucks Creek Powerhouse. The maximum flow capacity is 400 cfs.

Bucks Creek Powerhouse (Bucks Creek Development)

The project's water flow is conveyed through the Grizzly Forebay Tunnel to Bucks Creek Powerhouse. The Bucks Creek Powerhouse is a 47-foot-long by 132-foot-wide, steel frame and concrete building constructed from reinforced concrete, containing two turbine-generators with a total maximum capacity of 65 MW. The powerhouse produces an average annual generation of 223.6 GWh.

There are no associated transmission lines at the Bucks Creek Powerhouse. The powerhouse connects directly to the non-project switchyard adjacent to the powerhouse part of the interconnected transmission system.

Bucks Creek Powerhouse discharges the project's water flow in the North Fork Feather River, 1 mile upstream of Rock Creek Powerhouse, part of PG&E's Rock Creek-Cresta Hydroelectric Project (FERC Project No. 1962).

m. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following revised Hydro Licensing Schedule. Revisions to the schedule may be made as appropriate.

Milestone | Target date
Filing of recommendations, preliminary terms and conditions, and preliminary fishway prescriptions | October 2018.
Commission issues Draft Environmental Statement (EIS) | April 2019.
Comments on draft EIS | June 2019.
Modified terms and conditions Commission issues final EIS | August 2019.

p. Final amendments to the application must be filed with the Commission no later than 30 days from the issuance date of this notice.

q. A license applicant must file no later than 60 days following the date of issuance of the notice of acceptance and ready for environmental analysis provided for in 5.22: (1) a copy of the water quality certification; (2) a copy of the request for certification, including proof of the date on which the certifying agency received the request; or (3) evidence of waiver of water quality certification.

Dated: August 6, 2018.
Kimberly D. Bose,
Secretary.

[FR Doc. 2018-17305 Filed 8-10-18; 8:45 am]

BILLING CODE 6717-01-P